DEPARTMENT OF ENERGY

Federal Energy Regulatory Commission

Combined Notice of Filings #1

September 2, 2010.

Take notice that the Commission received the following electric corporate filings:

Docket Numbers: EC10-91-000.

Applicants: Entergy Power Ventures, L.P.

Description: Application for authorization of disposition of jurisdictional assets under Section 203 of the Federal Power Act re Entergy Power Ventures, LP.

Filed Date: 09/01/2010.

Accession Number: 20100902-0214.

Comment Date: 5 p.m. Eastern Time on Wednesday, September 22, 2010.

Docket Numbers: EC10-92-000.

Applicants: Alta Wind II, LLC, Alta Wind III, LLC, Alta Wind IV, LLC, Alta Wind V, LLC.

Description: Application for Authorization of Sale/Leaseback Financing Transactions and Requests for Expedited Consideration and Confidential Treatment of Alta Wind III, LLC, et al.

Filed Date: 09/01/2010.

Accession Number: 20100901-5249.

Comment Date: 5 p.m. Eastern Time on Wednesday, September 22, 2010.

Take notice that the Commission received the following electric rate filings:

Docket Numbers: ER99-3502-011.

Applicants: Berkshire Power Company, LLC.

Description: Berkshire Power Company, LLC Notice of Non-Material Change of Status.

Filed Date: 09/02/2010.

Accession Number: 20100902-5109.

Comment Date: 5 p.m. Eastern Time on Thursday, September 23, 2010.

Docket Numbers: ER06-736-004.

Applicants: Midway Sunset Cogeneration Company.

Description: Midway Sunset Cogeneration Company Supplement to Updated Market Power Analysis.

Filed Date: 09/01/2010.

Accession Number: 20100901-5246.

Comment Date: 5 p.m. Eastern Time on Wednesday, September 22, 2010.

Docket Numbers: ER05-717-015; ER04-374-016; ER06-1334-012; ER05-721-015; ER06-230-012; ER07-277-011; ER07-810-010; ER08-1172-009; ER08-237-010; ER09-1339-005; ER09-1340-005; ER09-1342-005; ER09-1341-005; ER09-429-006; ER09-430-006; ER09-946-005; ER99-2341-018.

Applicants: Forward Energy LLC, Sheldon Energy LLC, Invenergy Cannon Falls LLC, Spindle Hill Energy LLC, Spring Canyon Energy LLC, Grays Harbor Energy LLC, Grand Ridge Energy LLC, Willow Creek Energy LLC, Hardee Power Partners Limited, Judith Gap Energy LLC, Invenergy TN LLC, Wolverine Creek Energy LLC, Grand Ridge Energy II LLC, Grand Ridge Energy V LLC, Beech Ridge Energy LLC, Grand Ridge Energy III LLC, Grand Ridge Energy IV LLC.

Description: Notification of Change in Facts Under Market-Based Rate Authority of Spring Canyon Energy LLC, et al.

Filed Date: 09/01/2010.

Accession Number: 20100901-5247.

Comment Date: 5 p.m. Eastern Time on Wednesday, September 22, 2010.

Docket Numbers: ER10-1750-001; ER10-1751-001.

Applicants: Stream Energy Pennsylvania, LLC; SGE Energy Sourcing, LLC.

Description: Stream Energy Pennsylvania, LLC et al. submits additional information requested by FERC Staff for Attachments A and B to the pending market-based rate applications.

Filed Date: 09/02/2010.

Accession Number: 20100902-0217.

Comment Date: 5 p.m. Eastern Time on Thursday, September 23, 2010.

Docket Numbers: ER10-2519-000.

Applicants: Allegheny Power.

Description: Allegheny Power submits Construction Services Agreement.

Filed Date: 08/31/2010.

Accession Number: 20100901-0225.

Comment Date: 5 p.m. Eastern Time on Tuesday, September 21, 2010.

Docket Numbers: ER10-2520-000.

Applicants: Wisconsin Power and Light Company.

Description: Wisconsin Power and Light Company submits tariff filing per 35.12: Baseline WPL Agreements to be effective 9/1/2010.

Filed Date: 09/01/2010.

Accession Number: 20100901-5236.

Comment Date: 5 p.m. Eastern Time on Wednesday, September 22, 2010.

Docket Numbers: ER10-2521-000.

Applicants: Southwest Power Pool, Inc.

Description: Cancellation Notice of Southwest Power Pool, Inc.

Filed Date: 09/01/2010.

Accession Number: 20100901-5242.

Comment Date: 5 p.m. Eastern Time on Wednesday, September 22, 2010.

Docket Numbers: ER10-2522-000.

Applicants: Top of the World Wind Energy, LLC.

Description: Top of the World Wind Energy, LLC submits their Initial Market Based-Rate Application and Tariff Filing, to be effective 9/3/2010.

Filed Date: 09/02/2010.

Accession Number: 20100902-5130.

Comment Date: 5 p.m. Eastern Time on Thursday, September 23, 2010.

Docket Numbers: ER10-2523-000.

Applicants: Midwest Independent Transmission System Operator, Inc.

Description: Midwest Independent Transmission System Operator, Inc. submits tariff filing per 35.13(a)(2)(iii): MidAmerican-NIPCO IA to be effective 9/7/2010.

Filed Date: 09/02/2010.

Accession Number: 20100902-5155.

Comment Date: 5 p.m. Eastern Time on Thursday, September 23, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-22600 Filed 9-9-10; 8:45 am]

BILLING CODE 6717-01-P